SECURITIES AND EXCHANGE COMMISSION

[File No. 500-1]

Centor Energy, Inc.; Order of Suspension of Trading

February 11, 2014.

It appears to the Securities and Exchange Commission that there is a lack of current and accurate information concerning the securities of Centor Energy, Inc. (“Centor”) because of questions regarding the accuracy of assertions by Centor, and by others, in press releases and promotional materials concerning, among other things, the company's assets, operations, and financial prospects. Centor is a Nevada company based in Florida. The company's common stock is quoted on the OTC Link under the symbol CNTO.

The Commission is of the opinion that the public interest and the protection of investors require a suspension of trading in the securities of the above-listed company.

Therefore, it is ordered, pursuant to Section 12(k) of the Securities Exchange Act of 1934, that trading in the securities of the above-listed company is suspended for the period from 9:30 a.m. EST on February 11, 2014 through 11:59 p.m. EST on February 25, 2014.

By the Commission.
Kevin M. O'Neill,
Deputy Secretary.

[FR Doc. 2014-03259 Filed 2-11-14; 4:15 pm]

BILLING CODE 8011-01-P